DEPARTMENT OF LABOR

Employment and Training Administration

[TA-W-57,984]

Sipex Corporation; Milpitas, CA; Notice of Termination of Investigation

Pursuant to section 221 of the Trade Act of 1974, an investigation was initiated on September 20, 2005 in response to a worker petition which was filed by a company official on behalf of workers at Sipex Corporation, Milpitas, California.

The petitioner has requested that the petition be withdrawn. Consequently, the investigation has been terminated.

Signed in Washington, DC, this 5th day of October, 2005.
Richard Church,
Certifying Officer, Division of Trade Adjustment Assistance.

[FR Doc. E5-6004 Filed 10-28-05; 8:45 am]

BILLING CODE 4510-30-P